DEPARTMENT OF JUSTICE

28 CFR Part 0

[Directive No. 73A]

Redelegation Concerning International Prisoner Transfer Program

AGENCY: Office of the Assistant Attorney General, Criminal Division, Department of Justice.

ACTION: Final rule.

SUMMARY: Current Department of Justice regulations delegate to the Assistant Attorney General for the Criminal Division certain authorities of the Attorney General concerning transfer of offenders to or from foreign countries, including the authority to find appropriate or inappropriate the transfer of offenders to or from a foreign country under certain treaties. This final rule the Department of Justice's regulations to reflect that the Assistant Attorney General for the Criminal Division re-delegates this authority within the Criminal Division to the Deputy Assistant Attorneys General and to the Director, the Deputy Directors, and the Associate Director supervising the International Prisoner Transfer Unit of the Office of International Affairs. This rule reflects certain organizational changes that have been made within the Criminal Division with respect to which office is charged with the responsibility for handling prisoner transfers.

DATES: This rule is effective September 2, 2018, and is applicable beginning August 15, 2018.

FOR FURTHER INFORMATION CONTACT: Vaughn Ary, Director, Office of International Affairs, Criminal Division, Department of Justice, Washington, DC 20005; 202-514-0000.

SUPPLEMENTARY INFORMATION: This replacement of Directive 73 of the appendix to subpart K of part 0 is necessary due to the Criminal Division's decision to move the International Prisoner Transfer Unit from the Office of Enforcement Operations to the Office of International Affairs and to expand the number of officials authorized to find appropriate or inappropriate the transfer of offenders to or from a foreign country. Under current regulations, the Assistant Attorney General for the Criminal Division has re-delegated this authority to the Deputy Assistant Attorneys General and to the Director of the Office of International Affairs. This final rule extends the re-delegation of this authority to the Deputy Assistant Attorneys General in the Criminal Division and to the Director, the Deputy Directors, and the Associate Director supervising the International Prisoner Transfer Unit of the Office of International Affairs.

Administrative Procedure Act—5 U.S.C. 553

This rule is a rule of agency organization and relates to a matter relating to agency management and is therefore exempt from the requirements of prior notice and comment and a 30-day delay in the effective date. See 5 U.S.C. 553(a)(2), (b)(3)(A).

Regulatory Flexibility Act

A Regulatory Flexibility Analysis is not required to be prepared for this final rule because the Department was not required to publish a general notice of proposed rulemaking for this matter. 5 U.S.C. 604(a).

Executive Order 12866—Regulatory Planning and Review

This action has been drafted and reviewed in accordance with Executive Order 12866, Regulatory Planning and Review, section 1(b), The Principles of Regulation. This rule is limited to agency organization, management, and personnel as described in section 3(d)(3) of Executive Order 12866 and, therefore, is not a “regulation” or “rule” as defined by the order. Accordingly, this action has not been reviewed by the Office of Management and Budget.

Executive Order 13132—Federalism

This rule will not have substantial direct effects on the States, on the relationship between the national government and the States, or on distribution of power and responsibilities among the various levels of government. Therefore, in accordance with Executive Order 13132, it is determined that this rule does not have sufficient federalism implications to warrant the preparation of a Federalism Assessment.

Executive Order 12988—Civil Justice Reform

This rule was drafted in accordance with the applicable standards set forth in sections 3(a) and 3(b)(2) of Executive Order 12988.

Unfunded Mandates Reform Act of 1995

This rule will not result in the expenditure by State, local and tribal governments, in the aggregate, or by the private sector of $100,000,000 or more in any one year, and it will not significantly or uniquely affect small governments. Therefore, no actions were deemed necessary under the provisions of the Unfunded Mandates Reform Act of 1995.

Congressional Review Act

This action pertains to agency management, personnel, and organizations and does not substantially affect the rights or obligations of non-agency parties and, accordingly, is not a “rule” as that term is used by the Congressional Review Act, 5 U.S.C. 804(3)(B). Therefore, the reporting requirement of 5 U.S.C. 801 does not apply.

List of Subjects in 28 CFR Part 0

Authority delegations (Government agencies), Crime, Government employees, Law enforcement, Organization and functions (Government agencies), Prisoners.

For the reasons stated in the preamble, title 28, part 0, of the Code of Federal Regulations is amended as follows:

PART 0—ORGANIZATION OF THE DEPARTMENT OF JUSTICE

1. The authority citation for part 0 continues to read as follows:

Authority: 5 U.S.C. 301; 28 U.S.C. 509, 510, 515-19.

2. Amend the appendix to subpart K by removing Directive No. 73 and adding in its place Directive No. 73A to reads as follows:

Appendix to Subpart K of Part 0

* * * * *

[Directive No. 73A]

REDELEGATION OF AUTHORITY RESPECTING TRANSFER OF OFFENDERS TO AND FROM FOREIGN COUNTRIES TO THE DEPUTY ASSISTANT ATTORNEYS GENERAL AND THE DIRECTOR, DEPUTY DIRECTORS, AND ASSOCIATE DIRECTOR SUPERVISING THE INTERNATIONAL PRISONER TRANSFER UNIT OF THE OFFICE OF INTERNATIONAL AFFAIRS

By virtue of the authority vested in me by title 28, § 0.64-2, of the Code of Federal Regulations, the authority delegated to me by that section to exercise all of the power and authority vested in the Attorney General under Section 4102 of title 18, U.S. Code, which has not been delegated to the Director of the Bureau of Prisons, including specifically the authority to find the transfer of offenders to or from a foreign country under a treaty as referred to in Public Law 95-44 appropriate or inappropriate, is hereby re-delegated to the Deputy Assistant Attorneys General for the Criminal Division and to the Director, Deputy Directors, and the Associate Director supervising the International Prisoner Transfer Unit of the Office of International Affairs.

* * * * *

Dated: August 15, 2018.
Brian A. Benczkowski,
Assistant Attorney General, Criminal Division.

Note: The following appendix will not appear in the Code of Federal Regulations.

Directive No. 73A

REDELEGATION OF AUTHORITY RESPECTING TRANSFER OF OFFENDERS TO AND FROM FOREIGN COUNTRIES TO THE DEPUTY ASSISTANT ATTORNEYS GENERAL AND THE DIRECTOR, DEPUTY DIRECTORS, AND ASSOCIATE DIRECTOR SUPERVISING THE INTERNATIONAL PRISONER TRANSFER UNIT OF THE OFFICE OF INTERNATIONAL AFFAIRS

By virtue of the authority vested in me by Title 28, Part 0.64-2, of the Code of Federal Regulations, the authority delegated to me by that section to exercise all of the power and authority vested in the Attorney General under Section 4102 of title 18, U.S. Code, which has not been delegated to the Director of the Bureau of Prisons, including specifically the authority to find the transfer of offenders to or from a foreign country under a treaty as referred to in Public Law 95-44 appropriate or inappropriate, is hereby re-delegated to the Deputy Assistant Attorneys General for the Criminal Division and to the Director, Deputy Directors, and the Associate Director supervising the International Prisoner Transfer Unit of the Office of International Affairs.

Dated: August 15, 2018.

Brian A. Benczkowski,

Assistant Attorney General, Criminal Division.

[FR Doc. 2018-17949 Filed 8-23-18; 8:45 am]

BILLING CODE 4410-14-P